SMALL BUSINESS ADMINISTRATION

[Disaster Declaration #18022 and #18023; OKLAHOMA Disaster Number OK-00171]

Presidential Declaration Amendment of a Major Disaster for Public Assistance Only for the State of Oklahoma

AGENCY: U.S. Small Business Administration.

ACTION: Amendment 2.

SUMMARY: This is an amendment of the Presidential declaration of a major disaster for Public Assistance Only for the State of Oklahoma (FEMA-4721-DR), dated 07/19/2023.

Incident: Severe Storms, Straight-line Winds, and Tornadoes.

Incident Period: 06/14/2023 through 06/18/2023.

DATES: Issued on 09/07/2023.

Physical Loan Application Deadline Date: 09/18/2023.

Economic Injury (EIDL) Loan Application Deadline Date: 04/19/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Oklahoma, dated 07/19/2023, is hereby amended to include the following areas as adversely affected by the disaster.

Primary Counties: Choctaw, Pawnee.

All other information in the original declaration remains unchanged.

(Catalog of Federal Domestic Assistance Number 59008)

Francisco Sánchez, Jr.,
Associate Administrator, Office of Disaster Recovery & Resilience.

[FR Doc. 2023-20039 Filed 9-14-23; 8:45 am]

BILLING CODE 8026-09-P